DEPARTMENT OF TRANSPORTATION

Federal Aviation Administration

14 CFR Part 39

[Docket No. FAA-2011-0360; Directorate Identifier 2010-CE-061-AD; Amendment 39-17023; AD 2012-08-06]

RIN 2120-AA64

Airworthiness Directives; Univair Aircraft Corporation Airplanes

AGENCY: Federal Aviation Administration (FAA), DOT.

ACTION: Final rule; correction.

SUMMARY: The FAA is correcting an airworthiness directive (AD) that published in the Federal Register. That AD applies to certain Univair Aircraft Corporation Models (ERCO) 415-C, 415-CD, 415-D, E, G; (Forney) F-1 and F-1A; (Alon) A-2 and A2-A; and (Mooney) M10 airplanes. All references to Ercoupe Service Memorandum No. 20, Revision A, dated September 1, 2008, in the non-regulatory preamble and the regulatory text of the AD are incorrect because it is a service bulletin instead of a memorandum. This document corrects these errors. In all other respects, the original document remains the same.

DATES: This correction is effective November 13, 2012. The effective date of AD 2012-08-06, amendment 39-17023 (77 FR 52205, August 29, 2012) remains October 3, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Roger Caldwell, Aerospace Engineer, FAA, Denver ACO, 26805 East 68th Ave., Room 214, Denver, Colorado 80249-6361; telephone: (303) 342-1086; fax: (303) 342-1088; email: roger.caldwell@faa.gov.

SUPPLEMENTARY INFORMATION: Airworthiness Directive 2012-08-06, amendment 39-17023 (77 FR 52205, August 29, 2012), currently requires inspections of the ailerons, aileron balance assembly, and aileron rigging for looseness or wear; requires repair or replacement of parts as necessary; and requires a report of the inspection results. Reference to Ercoupe Service Memorandum No. 20, Revision A, dated September 1, 2008, is made in several places throughout the AD for Univair Aircraft Corporation Models (ERCO) 415-C, 415-CD, 415-D, E, G; (Forney) F-1 and F-1A; (Alon) A-2 and A2-A, and (Mooney) M10 airplanes. The service information is actually a bulletin and is incorrectly referenced as a memorandum.

No other part of the preamble or regulatory information has been changed; therefore, only the changed portion of the final rule is being published in the Federal Register.

The effective date of this AD remains October 3, 2012.

Correction of Non-Regulatory Text

In the Federal Register of August 29, 2012, AD 2012-08-06; Amendment 39-17023 (77 FR 52205, August 29, 2012) is corrected as follows:

On page 52206, in the 3rd column, under the comment heading “Request to Reference Ercoupe Service Bulletin No. 20 for the Aileron Balance Assembly Requirements,” on line 2, change “Memorandum” to “Bulletin.”

On page 52206, in the 3rd column, the 2nd paragraph under the comment heading “Request to Reference Ercoupe Service Bulletin No. 20 for the Aileron Balance Assembly Requirements,” on line 2, change “Memorandum” to “Bulletin.”

Correction of Regulatory Text

§ 39.13 [Corrected]

* * * * *

In the Federal Register of August 29, 2012, AD 2012-08-06; Amendment 39-17023 (77 FR 52205, August 29, 2012) on page 52208, paragraph (g), in the 3rd column of Table 1 of paragraph (g)—Required Actions, paragraph (g)(2), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52208, paragraph (g), in the 3rd column of Table 1 of paragraph (g)—Required Actions, paragraph (g)(3), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52208, paragraph (g), in the 3rd column of Table 1 of paragraph (g)—Required Actions, paragraph (g)(4), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52208, paragraph (g), in the 3rd column of Table 1 of paragraph (g)—Required Actions, paragraph (g)(5), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52209, paragraph (g), in the 3rd column of Table 1 of paragraph (g)—Required Actions, paragraph (g)(6), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52209, paragraph (g), in the 3rd column of Table 1 of paragraph (g)—Required Actions, paragraph (g)(7), on lines 1 and 2, change “Follow Ercoupe Service Memorandums No. 20, 56, and 57, * * *” to “Follow Ercoupe Service Bulletin No. 20 and Ercoupe Service Memorandums 56 and 57* * *”

* * * * *

In the Federal Register of August 29, 2012, AD 2012-08-06; Amendment 39-17023 (77 FR 52205, August 29, 2012) on page 52210, paragraph (g), in the 1st column of Figure 1 of paragraph (g)(10) of this AD “Reporting Form” under the heading “For Ercoupe Service Memorandum No. 57, Revision A, dated September 1, 2008” in the 4th box down, 3rd line, change “ Memorandum No. 20 (Ailerons-* * *” to “* * *Bulletin No. 20 (Ailerons-* * *”

* * * * *

In the Federal Register of August 29, 2012, AD 2012-08-06; Amendment 39-17023 (77 FR 52205, August 29, 2012) on page 52212, in the 1st column, paragraph (k)(v), 1st line change from “Ercoupe Service Memorandum No. 20* * *” to Ercoupe Service Bulletin No. 20* * *”

* * * * *

Issued in Kansas City, Missouri, on November 5, 2012.
Earl Lawrence,
Manager, Small Airplane Directorate, Aircraft Certification Service.

[FR Doc. 2012-27457 Filed 11-9-12; 8:45 am]

BILLING CODE 4910-13-P